DEPARTMENT OF HEALTH AND HUMAN SERVICES

Agency for Healthcare Research and Quality

Meeting of the National Advisory Council for Healthcare Research and Quality

AGENCY: Agency for Healthcare Research and Quality (AHRQ).

ACTION: Notice of public meeting.

SUMMARY: In accordance with section 10(a) of the Federal Advisory Committee Act, this notice announces a meeting of the National Advisory Council for Healthcare Research and Quality.

DATES: The meeting will be held on Friday, April 15, 2005, from 9 a.m. to 4 p.m. The morning session (9 a.m.-12 p.m.) is open to the public. The afternoon session 12:01 p.m. to 4 p.m. will be closed to the public in accordance with the Federal Advisory Committee Act, section 10(d) of 5 U.S.C., Appendix 2 and 5 U.S.C. 552b(c)(6). Grant applications are to be discussed at this meeting. These discussions are likely to include personal information concerning individuals associated with the applications, confidential research designs and potentially proprietary information. This information is exempt from mandatory disclosure under the above-cited statutes.

ADDRESSES: The meeting will be held at the John Eisenberg Room (800) of the Hubert H. Humphrey Building, Department of Health and Human Services, 200 Independence Avenue, SW., Washington, DC.

FOR FURTHER INFORMATION CONTACT: Deborah Queenan, Coordinator of the Advisory Council, at the Agency for Healthcare Research and Quality, 540 Gaither Road, Rockville, Maryland, 20850, (301) 427-1330. For press-related information, please contact Karen Migdail at (301) 427-1855.

If sign language interpretation or other reasonable accommodation for a disability is needed, please contact Mr. Donald L. Inniss, Director, Office of Equal Employment Opportunity Program, Program Support Center, on (301) 443-1144 no later than April 8, 2005. Agenda, roster, and minutes are available from Ms. Bonnie Campbell, Committee Management Officer, Agency for Healthcare Quality and Research, 540 Gaither Road, Rockville, Maryland 20850. Her phone number is (301) 427-1554.

SUPPLEMENTARY INFORMATION:

I. Purpose

Section 921 of the Public Health Service Act (42 U.S.C. 299c) established the National Advisory Council for Healthcare Research and Quality. In accordance with its statutory mandate, the Council is to advise the Secretary of the Department of Health and Human Services and the Director, Agency for Healtcare Research and Quality (AHRQ), on matters related to actions of the Agency to enhance the quality, improve the outcomes, reduce the costs of health care services, improve access to such services through scientific research, and to promote improvements in clinical practice and in the organization, financing, and delivery of health care services.

The Council is composed of members of the public appointed by the Secretary and Federal ex-officio members.

II. Agenda

On Friday, April 15, 2005, the meeting will begin at 9 a.m., with the call to order by the Council Chair. The Director, AHRQ, will present the status of the Agency's current research, programs, and initiatives and a discussion of strategic planning. The public portion of the meeting will adjourn at 12 p.m. The official agenda will be available on AHRQ's Web site at www.ahrq.gov no later than April 8, 2005.

Dated: March 22, 2005.
Carolyn M. Clancy,
Director.

[FR Doc. 05-6171 Filed 3-28-05; 8:45 am]

BILLING CODE 4160-90-M